DEPARTMENT OF HOMELAND SECURITY

U.S. Customs and Border Protection

DEPARTMENT OF THE TREASURY

19 CFR Part 12

[CBP Dec. 20-04]

RIN 1515-AE53

Extension of Import Restrictions on Archaeological Material and Imposition of Import Restrictions on Ecclesiastical Ethnological Material From El Salvador

AGENCY: U.S. Customs and Border Protection, Department of Homeland Security; Department of the Treasury.

ACTION: Final rule.

SUMMARY: This document amends the U.S. Customs and Border Protection (CBP) regulations to reflect an extension of import restrictions on certain archaeological material from the Republic of El Salvador (El Salvador). The document further amends the Designated List contained in T.D. 95-20, which describes the types of articles to which the import restrictions apply, to reflect the addition of certain ecclesiastical ethnological material. The import restrictions, which were last extended by CBP Dec. 15-05, were due to expire on March 8, 2020, unless extended. The Assistant Secretary for Educational and Cultural Affairs, United States Department of State, has determined that conditions continue to warrant the imposition of import restrictions on archeological material from El Salvador. Additionally, the Assistant Secretary for Educational and Cultural Affairs, United States Department of State, has made the requisite determinations for adding import restrictions on certain categories of ecclesiastical ethnological material from the Colonial period through the first half of the twentieth century. On March 2, 2020, the Government of the United States and the Government of El Salvador entered into a Memorandum of Understanding (MOU) that supersedes the existing agreement that first became effective on March 8, 1995. Pursuant to the new MOU, the import restrictions for archaeological material will remain in effect for an additional five years until March 2, 2025. The new MOU further covers import restrictions on ecclesiastical ethnological material until March 2, 2025.

DATES: Effective March 16, 2020.

FOR FURTHER INFORMATION CONTACT: For legal aspects, Lisa L. Burley, Chief, Cargo Security, Carriers and Restricted Merchandise Branch, Regulations and Rulings, Office of Trade, (202) 325-0300, otrrculturalproperty@cbp.dhs.gov. For operational aspects, Genevieve S. Dozier, Management and Program Analyst, Commercial Targeting and Analysis Center, Trade Policy and Programs, Office of Trade, (202) 945-2952, CTAC@cbp.dhs.gov.

SUPPLEMENTARY INFORMATION:

Background

Pursuant to the Convention on Cultural Property Implementation Act, Public Law 97-446, 19 U.S.C. 2601 et seq. (hereinafter, “the Cultural Property Implementation Act,” or “the Act”), which implements the 1970 United Nations Educational, Scientific and Cultural Organization (UNESCO) Convention on the Means of Prohibiting and Preventing the Illicit Import, Export and Transfer of Ownership of Cultural Property (823 U.N.T.S. 231 (1972)), the United States entered into a bilateral agreement with the Republic of El Salvador (El Salvador) on March 8, 1995, concerning the imposition of import restrictions on certain categories of archaeological material from El Salvador's Pre-Hispanic cultures and ranging in date from approximately 8000 B.C. to 1550 A.D. On March 10, 1995, the former U.S. Customs Service (now U.S. Customs and Border Protection (CBP)) published T.D. 95-20 in the Federal Register (60 FR 13352), which amended § 12.104g(a) of title 19 of the Code of Federal Regulations (19 CFR 12.104g(a)) to reflect the imposition of these import restrictions and included a list designating the types of archaeological material covered by the restrictions.

Import restrictions listed at 19 CFR 12.104g(a) are effective for no more than five years beginning on the date on which the agreement enters into force with respect to the United States. This period may be extended for additional periods of not more than five years if it is determined that the factors which justified the initial agreement still pertain and no cause for suspension of the agreement exists. See 19 CFR 12.104g(a).

Since the initial notice was published on March 10, 1995, the import restrictions were subsequently extended four (4) times. First, on March 9, 2000, following the exchange of diplomatic notes, the former U.S. Customs Service (now CBP), published T.D. 00-16 in the Federal Register (65 FR 12470) to extend the import restrictions for a period of five years to March 8, 2005. Second, on March 9, 2005, following the exchange of diplomatic notes, CBP published CBP Dec. 05-10 in the Federal Register (70 FR 11539) to extend the import restriction for an additional five-year period to March 8, 2010. Third, on March 8, 2010, following the exchange of diplomatic notes, CBP published CBP Dec. 10-01 in the Federal Register (75 FR 10411) to extend the import restriction for an additional period of five years to March 8, 2015. Fourth, on March 6, 2015, following the exchange of diplomatic notes, CBP published CBP Dec. 15-05 in the Federal Register (80 FR 12080) to reflect the extension of the import restrictions for an additional five-year period to March 8, 2020.

On June 5, 2019, the United States Department of State proposed in the Federal Register (84 FR 26174) to extend the Memorandum of Understanding (MOU) between the United States and El Salvador concerning the imposition of import restrictions on certain categories of archeological material from the Pre-Hispanic Cultures of El Salvador.

On November 7, 2019, after consultation with and recommendations by the Cultural Property Advisory Committee, the Assistant Secretary for Educational and Cultural Affairs, United States Department of State, determined that: (1) El Salvador's cultural heritage continues to be in jeopardy from pillage of Pre-Hispanic archeological resources and that the import restrictions should be extended for an additional five years; and (2) El Salvador's cultural heritage is in jeopardy from pillage of certain types of ecclesiastical ethnological material from the Colonial period through the first half of the twentieth century and import restrictions on such types of ecclesiastical ethnological material should be imposed.

On March 2, 2020, the Government of the United States and Government of El Salvador entered into a MOU, titled “Memorandum of Understanding between the Government of the United States of America and the Government of the Republic of El Salvador Concerning the Imposition of Import Restrictions on Categories of Archaeological and Ethnological Material of the Republic of El Salvador.” The new MOU supersedes the existing agreement that first became effective on March 8, 1995. Pursuant to the new MOU, the import restrictions for archaeological material will remain in effect for an additional five years until March 2, 2025. The new MOU further covers import restrictions on certain categories of ecclesiastical ethnological material (from the Colonial period through the first half of the twentieth century ranging in date from approximately A.D. 1525 to 1950) until March 2, 2025.

Accordingly, CBP is amending 19 CFR 12.104g(a) to reflect the extension of the import restrictions, and the Designated List of cultural property described in T.D. 95-20 by adding certain categories of ecclesiastical ethnological material from El Salvador from the Colonial period through the first half of the twentieth century ranging in date from approximately A.D. 1525 to 1950, as set forth below. The restrictions on the importation of archaeological and ecclesiastical ethnological material will be in effect through March 2, 2025. Importation of such material from El Salvador will be restricted through that date unless the conditions set forth in 19 U.S.C. 2606 and 19 CFR 12.104c are met.

The Designated List and additional information may also be found at the following website address: https://eca.state.gov/cultural-heritage-center/cultural-property-advisory-committee/current-import-restrictions by selecting the material for “El Salvador.”

Designated List of Archaeological and Ecclesiastical Ethnological Material of El Salvador

The Designated List contained in T.D. 95-20, which describes the types of articles to which the import restrictions apply, is amended to reflect the addition of certain ecclesiastical ethnological material to the Designated List. In order to clarify certain provisions of the Designated List contained in T.D. 95-20, the amendment also includes minor revisions to the language, organization, and numbering of the Designated List. For the reader's convenience, CBP is reproducing the Designated List contained in T.D. 95-20 in its entirety, with the changes, below.

The Designated List includes archaeological material from El Salvador ranging in date from approximately 8000 B.C. to A.D. 1550, and ecclesiastical ethnological material from El Salvador from the Colonial period through the first half of the twentieth century ranging in date from approximately A.D. 1525 to 1950.

Categories of Material

I. Archaeological Material

A. Figurines

B. Other Small Ceramic Artifacts

C. Ceramic Vessels

D. Ceramic Drums

E. Incense Burners

F. Mushroom Effigies

G. Stone Sculptures

H. Small Stone Artifacts

I. Metal Artifacts

II. Ethnological Material

A. Paintings

B. Sculptures

C. Furniture

D. Metalwork

E. Textiles

F. Documents and Manuscripts

I. Archaeological Material

Archaeological material covered by the MOU includes material from El Salvador ranging in date from approximately 8000 B.C. to A.D. 1550. Examples of archaeological material covered by the MOU include, but are not limited to, the following objects:

Simplified Chronology ¹

¹ This list of terms of time periods and their subdivisions contains some terms that overlap and are used to distinguish pivotal intervals in regional prehistory (these terms are: Protoclassic, Terminal Classic, and Protohistoric). Different references may vary slightly as to the beginning and end dates for the periods listed.

Archaic period: c. 8000-1700 B.C.

Preclassic period: 1700 B.C.-A.D. 200

Early Preclassic: 1700-800 B.C.

Middle Preclassic: 800-400 B.C.

Late Preclassic: 400 B.C.-A.D. 200

Classic period: 200 B.C.-A.D. 900

Protoclassic: 200 B.C.-A.D. 200

Early Classic: A.D. 200-600

Late Classic: A.D. 600-900

Terminal Classic: A.D. 800-900

Postclassic period: A.D. 900-1524

Early Postclassic: A.D. 900-1200

Late Postclassic: A.D. 1200-1524

Protohistoric: c. A.D. 1400-1550

A. Figurines

1. Preclassic Figurines

Most are solid ceramic figurines representing women with broad torsos and thighs, and small or virtually flat breasts. These are portrayed in a sitting or standing position. The eyes and mouth were typically represented by jabbing small holes into the still wet clay (punctation), many times with two or three holes used to depict each eye. Although the bodies are crafted without much detail, elaborate coiffures are commonly shown.

a. Dating: Most Preclassic figurines date to the Late Preclassic (corresponding to the Chul and Caynac Ceramic Complexes of western El Salvador, and the Uapala Phase of eastern El Salvador).

b. Appearance: Often cream to white, but may also be red or brown (ranging from dark brown to tan). Usually of very fine textured clay.

c. Size: Most range between 4 in (10 cm) to 8 in (20 cm) in height. Examples smaller than about 4 in (10 cm) may be perforated for use as pendants. Rare figurines of 16 in (40 cm) or more in height have been reported.

d. Important Variants: Some of the larger figurines are hollow rather than solid. Very rare examples have movable arms, with sockets set into the shoulders and separate arm pieces that were actuated by means of strings. Some figurines depict women cradling infants. Whistle mechanisms are very rarely present. Painted designs in black or other colors are very rare on these figurines.

e. Formal Names: Bolinas figurines (Stanley H. Boggs, “Pre-Maya Costumes and Coiffures” in Americas 25(2): 19-24, Organization of American States, Washington, DC, United States (1973) (hereinafter, referred to as “Boggs 1973a”)); Kulil, Xiquin, and Tat Complex figurines (Bruce H. Dahlin, “Figurines” in The Prehistory of Chalchuapa, El Salvador, Vol. 2, University of Pennsylvania Press, Philadelphia, Pennsylvania, United States (Robert A. Sharer ed. 1978) (hereinafter, referred to as “Dahlin 1978”)); Quelepa Figurine Types 1 and 2 (E. Wyllys Andrews, V., “The Archaeology of Quelepa, EI Salvador” in Middle American Research Institute 42, Tulane University, New Orleans, Louisiana, United States (1976) (hereinafter, referred to as “Andrews 1976”)).

2. Lepa Figurines

Most are solid ceramic figurines representing standing humans, while others are animal effigies that function as whistles, whistle flutes, or wheeled figurines incorporating whistle flutes.

a. Human Figurines: These figurines have a generally flattened appearance and heads are usually crowned by a broad and narrow headband (or hairdo) resembling a long bar. Eyes are shown by a single punctuation (to represent the pupil) between two ridges, defining the eye itself. Feet are usually split in a “Y” shape to help support the figurine. The figurines may be adorned with necklaces shown by a series of clay pellets. Rarely is enough detail included to determine which sex is intended (in such cases, women are usually represented).

b. Pelleted Tubular Whistle Flutes: Tubes with a whistle mechanism (blowhole) at one end and a rolling pellet within that produces a continuously varying tone when blown and tilted up and down. Simple bird or monkey heads may be added to the instrument's body.

c. Wheeled Figurines: Human or animal effigies with four tabular legs, each with a perforation to accept wooden sticks as axles for the front and rear wheels (the wheels themselves were ceramic discs rarely found together with these artifacts). Decoration is mostly through appliqué using relatively thick strips and pellets of clay.

d. Animal Effigy Whistle Flutes: Made from a small sphere of clay with very simple (schematic) appliqué to represent humans, birds, turtles, armadillos, opossums, and other animals. In addition to the whistle mechanism, these have one or two finger holes in their bodies that vary their tone when covered. The most elaborate examples may have punctate and ridge eyes like those found in the Lepa human figurines. May be perforated for suspension.

e. Dating: Late Classic Lepa Phase of central and eastern El Salvador, represented in Quelepa, Tehuacán, and other sites.

f. Appearance: Usually reddish brown to brick red, with a rough or only moderately smoothed surface. Some have a polished white slip that, when well preserved, may have elaborate designs painted in black, red, and/or yellow. Pelleted tubular whistle flutes have been noted with fugitive (post-firing) white and/or blue paint.

g. Size: Most human figurines range in height between 5 in (12 cm) to 10 in (25 cm). Unusually large examples are known to reach 15 in (38 cm) in height, and these tend to bear painted designs more often than the normal sized figurines. The pelleted tubular whistle flutes known are 7 in (18 cm) or slightly shorter in length. The wheeled figurines known range from about 3.5 in (9 cm) to 5 in (13 cm) in length. The animal effigy whistle flutes measure about 2-3 in (5-8 cm) in maximum length.

h. Important Variants: Larger figurines may be hollow rather than solid, and may either contain pellets to act as a rattle, or may be equipped with holes for use as a flute (“ocarina”).

i. Formal Names: The human figurines have been classed as Lower Lempa Culture figurines (Wolfgang Haberland, “On Human Figurines from San Marcos Lempa, El Salvador, C.A.” in El Mexico Antiguo 9: 509-524, México, D.F. (1961) (hereinafter, referred to as “Haberland 1961”)) and as Quelepa Figurine Type 3 (Andrews 1976). The wheeled figurines have been termed Oriental Type (Stanley H. Boggs, “Figurillas con ruedas de Cihuatán y el Oriente de El Salvador” in Colección de Antropología 3, Dirección de Publicaciones, Ministerio de Educación, San Salvador, El Salvador (1973) (hereinafter, referred to as “Boggs 1973b”)). The animal effigy whistle flutes have been referred to as Lepa Phase whistles (Andrews 1976; see also Stanley H. Boggs, “Notes on Pre-Columbian Wind Instruments from El Salvador” in Baessler-Archiv 22, Baessler-Institut, Berlin, Germany (1974) (hereinafter, referred to as “Boggs 1974”)).

3. Cotzumalhuapa Figurines and Molds

Ceramic figurines, usually hollow and typically mold-made in part (especially heads). About half the known examples represent women, and most of the remainder depict a variety of animals (men are rare). Some representations of plants and furniture (litters) are known. Whistle mechanisms were optional for all forms of Cotzumalhuapa figurines. Pelleted tubular whistle flutes and recently identified Cotzumalhuapa wheeled figurines are also included here.

a. Molds: The molds used to produce these figurines were press molds made of coarse textured fired clay, usually brick red or reddish brown in color. The working faces of these molds present a complicated depressed area that produces the impression, while the opposite side of the mold is usually rounded and carelessly finished. A sheet of wet clay was pressed into the mold and then carefully extracted with the impression of, for examples, the front half of a female figurine (the other half was added by hand modeling, as were optional details like headgear if these were absent from the mold used).

b. Female Figurines: The figurines representing women have been referred to as “bell-form” due to the shape of their conical hollow bases. They usually portray elaborately dressed women, adorned with necklaces, earplugs, and large headgear of variable shape (but often resembling a half moon). The uniformity in portrayal suggests that we are dealing with a personage, and it is not too speculative to suggest that she was an important Cotzumalhuapa goddess. Rare figurines exist where the female's body is covered by cacao pods, indicating a relationship to agricultural production and, in these latter examples, with the intensive production of cacao that has been documented as an important Cotzumalhuapa economic focus. Whistle mechanisms, when present, are usually worked into one shoulder (the larger female figurines tend not to possess whistle mechanisms).

c. Male Figurines: The very rare male figurines are known to include representations of warriors (with clubs and shields) and injured or diseased individuals (one example shows an individual with patches of flesh missing from the maxillary area and nose).

d. Animal Figurines: Among the animals present in Cotzumalhuapa figurines are parrots, vultures, owls, doves, monkeys, felines (probably jaguars are intended), bats, dogs, deer, frogs or toads, turtles, iguanas, snakes, crocodiles, fish, clams, crabs, and others. These reflect the rich fauna of the Cotzumalhuapa area, which included mangrove lined estuaries, the adjoining coastal plains, and nearby mountain ranges. Monkeys and parrots are, however, the most common animals depicted. Most animal figurines have whistle mechanisms. Because of the complicated forms required for animals, use of molds may sometimes be limited to face areas, and some are entirely hand modeled.

e. Plant Figurines: Representations of corn cobs and cacao pods have been found.

f. Pelleted Tubular Whistle Flutes: Tubes with a whistle mechanism (blowhole) at one end and a rolling pellet within that produces a continuously varying tone when blown and tilted up and down. One example is apparently a bat effigy, with a bat head and disk (representing the wings) added to the tubular body of the instrument.

g. Wheeled Figurines: Cotzumalhuapa wheeled figurines have only recently been identified. One has a tubular body with four tabular supports, each with a perforation to accept the wooden sticks that acted as axles for the front and rear wheels. A mold-made dog head was added to one end of the tube, and a tail to the other.

h. Other Figurines: Two figurines have been documented representing the litters that were probably used to transport Cotzumalhuapa elites. They resemble a small rectangular box with a canopy, supported by four spiked feet. A pair of holes at each extreme permitted two sticks to be inserted to act as the carrying poles. On one example, the canopy was modeled to represent the stretched skin of a crocodile arranged with the head at one extreme and the tail at the other, with a spiked crest running between the two. Other Cotzumalhuapa modeled clay artifacts that may be included as figurines include objects resembling scepters, bells, lidded boxes, and plaques with human faces.

i. Dating: Late Classic products of the Cotzumalhuapa culture, which in El Salvador included the western coastal plain to the upper drainage of the Paz River. Trade brought examples into Payu Ceramic Complex contexts elsewhere in western and central El Salvador.

j. Appearance: Most are brown (from tan through reddish brown) to red (brownish red to brick red), with a coarsely finished to moderately smoothed surface. Rare examples are of Tiquisate Ware (characterized by a very smooth, lustrous, and hard surface, cream to orange in color), and may be ancient imports from the Pacific coast of Guatemala. Traces of paint may be present (blue, black, red, yellow, and white have been documented); the paint was usually applied after firing and tends to be easily eroded. Those parts of figurines made without the benefit of molds tend to be rather carelessly modeled.

k. Size: Female figurines usually range in height from 4 in (10 cm) to 12 in (30 cm), but some rare specimens reach 24 in (60 cm) and perhaps more in height. Animal and plant figurines tend to be small, typically ranging from 3 in (8 cm) to 6 in (16 cm) in their maximum dimension, though larger examples occur. The pelleted tubular whistle flute mentioned measures 6 in (16 cm) in length. Wheeled figurines measure 5.5 in (14 cm) in length. The models of litters are approximately 9 in (23 cm) in length.

l. Important Variants: Cotzumalhuapa use of clay was very creative and the observer should expect figurine forms not mentioned here.

4. Payu Figurine Flutes and Whistles

Most Payu ceramic figurines known are musical instruments that have been classified as whistles, whistle flutes, and flutes (commonly called “ocarinas”). Although their decoration varies considerably, important hallmarks (when present) are the decorative use of parallel strips of clay (sometimes with longitudinal grooves), and appliqué of clay pellets with a distinctive dimple in their center. Molds were sometimes employed to render the faces of humans and monkeys. Human faces may include details commonly associated with Classic Maya conventions, including cheek decorations (from tattoos or scarification), extension of the bridge of the nose to above eye level, and/or a steeply inclined forehead (representing cranial deformation).

a. Globular Flutes (“ocarinas”): Payu figurine globular flutes have a very distinctive construction. Three spheres of clay were joined together in a column or in an “L” shape (and pierced at the junctures). The uppermost sphere was equipped with a blowhole. Clay was then packed around this assembly and decorative elements added. All “L”-shaped flutes known were decorated to represent a standing quadruped animal whose open mouth forms the blowhole. Other (straight) flutes were almost always modeled to represent a human (either full-body or just the head portion).

b. Tubular Whistle Flutes: A tubular form with a whistle mechanism (blowhole) at one end and three to five finger holes along the body of the tube. The appliquéd head and arms of a monkey or human are always present next to the blowhole.

c. Whistle Flutes: A small, spherical body with a whistle mechanism and one or two finger holes is hidden to a lesser or greater degree under effigy decoration. This decoration tends to be notably more carefully executed and detailed than Lepa or Cotzumalhuapa examples. Examples include effigies of humans (full-body or heads), monkeys, dogs, birds, and reptiles. Smaller whistle flutes may be perforated for suspension.

d. Dating: An artifact class belonging to the assemblage associated with the Payu Ceramic Complex (Late Classic Period).

e. Appearance: Most Payu figurines are of medium textured clay with a moderately smoothed surface (and almost always unslipped). Color is usually reddish brown but may range from tan to brick red. Traces of paint are rare and may include blue-green, white, yellow, red, or black. Painted decoration, when present, was usually added after firing and tends to easily wear away.

f. Size: Globular flutes: 3-8 in (8-21 cm); tubular whistle flutes: 6-8 in (15-21 cm); whistle flutes: 2-8 in (5-20 cm).

g. Formal Names: None. Many examples are illustrated in Boggs 1974 (noted as Late Classic, from western and part of central El Salvador).

5. Guazapa Figurines

Early Postclassic ceramic figurines whose style is derived from central Mexico and form part of the Guazapa Phase of central and western El Salvador. The Guazapa Phase has been interpreted as marking the large-scale migration of Nahua speakers into this area, these being the ancestors of the historical Pipil.

a. Mazapan-Related Figurines: Very flat figurines whose rendition of the human figure has been compared to gingerbread cookies. These objects were made by pressing a sheet of clay into a mold, obtaining a thin (0.75-1 in (2-3 cm)) solid figurine. The rear portion of the figurine is left unfinished and may exhibit finger marks from when the clay was pressed into its mold. The front displays a woman with a blouse with a triangular front, coming to a point in the middle of the waist. This type of blouse was referred to as a quechquemitl in central Mexico at the time of the Conquest, when its use was restricted to images of goddesses and goddess impersonators. These figurines are named for their close similarity to figurines of the Mazapan (Toltec) Phase of central Mexico.

b. Toad Effigies: Hand modeled large hollow toad effigies. They are usually shown as sitting as erect as possible for a toad, looking upwards. The front and rear of the toad's body is decorated with strips and buttons of clay meant to represent festive ribbons and bows. The tongue may be shown hanging from the mouth. In Postclassic Nahua mythology, toads were considered Tlaloc's (the rain god) helpers, and it was they who announced the coming of the rains (the extended tongues are probably meant to represent their thirsty anticipation of rain). Due to this association, some examples of toad effigies include two rings around the eyes (a diagnostic trait of Tlaloc himself).

c. Tlaloc Bottles: Bottles with a more or less spherical body crowned by a straight tubular neck with a flat, flaring rim. The body is decorated with the face of the rain god Tlaloc whose most distinctive trait is a ring around each eye. Many Tlaloc Bottles are in fact plugged in the neck or body and could not have actually functioned as vessels. Tlaloc was considered to dwell in the mountain peaks and pour out the rains from a bottle. These artifacts were probably household votive images of that bottle.

d. Very Large Effigy Figurines or Statues: Hand modeled hollow figurines representing jaguars, gods, or god impersonators. The larger examples reach life size and may truly be considered ceramic statuary (in any case, they have been included under “Figurines” to facilitate discussion). Known examples of gods or god impersonators represent the gods Tlaloc (identifiable by the rings around his eyes), Mictlantecutli (represented as a skeletal personage), and Xipe Totec (portrayed as wearing a flayed human skin). The largest figures may be crafted in several mating parts (for example, a Xipe Totec effigy was made in two large halves joining at the waist, with a separate head). Seventeen jaguar effigies were found in one excavation at Cihuatán; all of these portray a jaguar sitting on its haunches, decorated with necklaces and a few bulbous objects placed on different parts of the body.

e. Small Solid Figurines: Hand modeled figurines of humans that are usually solid or mostly so, and that occasionally employed molds to form the face. Most appear to represent males who may carry war equipment (such as a dart thrower or atlatl) and large headgear. These figurines tend to be relatively small and crudely modeled.

f. Wheeled Figurines: Small wheeled figurine, consisting of a tubular hollow body with four tabular supports, each with a hole to accept wooden sticks acting as axles for the front and rear wheels. The wheels are flat ceramic disks. A tail was added to one end of the tubular body and a head to the other. Examples are known with deer heads with antlers and dog heads with tongue extended over the lower lip.

g. Dating: Artifacts of the Early Postclassic Guazapa Phase of central and western El Salvador (at Cihuatán, Igualtepeque, El Cajete, Ulata, Santa María, Pueblo Viejo Las Marías, and other sites).

h. Appearance: Generally reddish brown to brick red, but may be as light as tan in color. The surface may be smoothed but not polished and has a sandy texture. Many give the impression of having been hastily made. Traces of white, black, blue, yellow, and/or red fugitive paint have been found on some figurines.

i. Size: Height of Mazapan-related figurines: 6-10 in (15-25 cm); height of toad effigies: 6-9 in (15-23 cm); height of Tlaloc bottles: 4-10 in (10-25 cm); height of very large effigy figurines or statues: 24-55 in (61-140 cm); height of small solid figurines: 6-18 in (15-30 cm); length of wheeled figurines: 5.5-8.5 in (14-22 cm).

j. Formal Names: Encompassed by the Guazapa Phase, the type site of which is Cihuatán (see Stanley H. Boggs, “A Human-Effigy Figure from Chalchuapa, El Salvador” in Notes on Middle American Archaeology and Ethnology 31, Carnegie Institution of Washington, Washington, DC, United States (1944) (hereinafter, referred to as “Boggs 1944”); Stanley H. Boggs, “Apuntes sobre varios objetos de barro procedentes de Los Guapotes en El Lago de Guija” in Antropología e Historia de Guatemala 15(1), Instituto de Antropología e Historia, Guatemala (1963) (hereinafter, referred to as “Boggs 1963”); Boggs 1973b; Stanley H. Boggs, “Antigüedades salvadoreñas errantes: dos Xipe Totecs del lago de Güija” in Anales del Museo Nacional “David J. Guzmán” 49, Dirección de Publicaciones, Ministerio de Educación, San Salvador, El Salvador (1976) (hereinafter, referred to as “Boggs 1976”); Karen Olson Bruhns, “Cihuatán: An Early Postclassic Town of El Salvador, the 1977-78 Excavations” in Monographs in Anthropology 5, The Museum of Anthropology, University of Missouri, Columbia, Missouri, United States (1980) (hereinafter, referred to as “Bruhns 1980”); William R. Fowler, Jr., The Pipil-Nicarao of Central America (unpublished dissertation) (on file with Department of Anthropology, University of Calgary, Canada (1981) (hereinafter, referred to as “Fowler 1981”); William R. Fowler, Jr., “The Figurines of Cihuatán, El Salvador” in The New World Figurine Project, Vol. 1, Research Press, Provo, Utah, United States (Terry Stocker ed. 1990) (hereinafter, referred to as “Fowler 1990”)).

B. Other Small Ceramic Artifacts

1. Spindle Whorls or Malacates

Small ceramic disc-shaped artifacts with a central perforation. As viewed in section, these are thicker towards the center. They may have incised or mold-made decoration. These are often mistaken for ceramic beads and many may be strung together for transport or display.

a. Dating: Late Classic to Protohistoric Periods. Different varieties are documented in relation to Late Classic Phases and ceramic complexes (Lepa, Payu, Tamasha) through the Postclassic (Guazapa, Cuscatlán, and others).

b. Appearance: Carefully formed and smoothed. Many were slipped, and run the full range of black through brown through red. Fugitive white paint has been noted as a rare filler for incised designs.

c. Size: 0.8-1.2 in (2.1-3.2 cm) in diameter. Holes are always close to 0.25 in (0.6 cm) in diameter.

d. Formal Names: Referred to as spindle whorls or malacates (see, e.g., John M. Longyear, III, “Archaeological Investigations in El Salvador” in Memoirs of the Peabody Museum of Archaeology and Ethnology 9(2), Harvard University, Cambridge, United States (1944) (hereinafter, referred to as “Longyear 1944”); Robert J. Sharer, ed., The Prehistory of Chalchuapa, El Salvador, University of Pennsylvania, Philadelphia, Pennsylvania, United States (1978) (hereinafter, referred to as “Sharer 1978”); Andrews 1976).

2. Ceramic Seals

Ceramic seals present a high-relief pattern on clay surface and are thought to have been used with paint to stamp designs for body and/or textile decoration. Some were used to impress designs on still-wet pottery objects. Some seals have been found still covered with red pigment. Seals may be flat, with a spike handle on the rear, or cylindrical and used by rolling. Cylinder seals usually have a central perforation that would have allowed a stick to be passed through and facilitate their use like rolling pins.

a. Dating: To date, seals have been found in El Salvador in contexts ranging from the Late Preclassic and Late Classic Periods (in relation to the Chul, Caynac and Payu Ceramic Complexes and the Tamasha Phase).

b. Appearance: Well-smoothed and sometimes slipped surfaces. Color ranges from black-brown through reddish-brown and red.

c. Size: Flat seals: 1.2-5 in (3-13 cm) in diameter; cylinder seals may be 2.4-5 in (6-12 cm) in length.

d. Formal Names: Usually referred to as seals or stamps, flat or cylindrical (see Sharer 1978; Arthur A. Demarest, “The Archaeology of Santa Leticia and the Rise of the Maya Civilization” in Publication 52, Middle American Research Institute, Tulane University, New Orleans, Louisiana, United States (1986) (hereinafter, referred to as “Demarest 1986”); Paul E. Amaroli, Informe preliminar de las excavaciones arqueológicas en Cara Sucia, departamento de Ahuachapán, El Salvador (unpublished manuscript) (on file with Dirección de Patrimonio Cultural, San Salvador, El Salvador) (1987) (hereinafter, referred to as “Amaroli 1987”).

3. Miniatures

Very small ceramic objects made in the form of jars or flasks. Often made of a very fine cream colored ceramic. These may be modeled to resemble squash effigies, or may include stamped designs of Maya glyphs, human forms, or animals. Miniature vessels often contain residuals of red pigment. Late Classic Period.

a. Size: 1.5-4 in (4-10 cm) in height.

b. Formal Names: None.

4. Spools

This category includes several varieties of spool-shaped artifacts that functioned as earspools and as labrets. Often a short tab extends from one side, while the other may have modeled (and sometimes mold-made) decoration. Alternatively, the spool sides may have incised decoration.

a. Dating: Early Preclassic through Postclassic Periods (Sharer 1978; Amaroli 1987).

b. Size: Normally do not exceed 1.3 in (3.4 cm) in their maximum dimension.

C. Ceramic Vessels

1. Polychrome Vessels

a. Copador Polychrome Vessels: Hemispherical bowls, bowls with composite walls, cylindrical vases, and jars with painted designs in red, black, and optionally yellowish orange on a cream to light orange base. The red paint used is almost always specular (small flecks of crystals flash as the vessel is moved in strong light). Copador paste is cream colored (or sometimes very light brown) and is not very hard or dense. Designs (usually on the exterior) may include bands of motifs derived from Maya glyphs, seated individuals, individuals in a swimming position, melon-like stripes, birds or other animals, and others. Rare examples have excavated lines or patterns. Copador Polychrome may usually be distinguished on the basis of its specular red paint and cream colored paste.

i. Dating: Late Classic Period (defined as a member of the Payu Ceramic Complex, which is commonly in Tamasha Phase deposits (Cara Sucia)).

ii. Size: Bowl diameter may vary from 4-12 in (10-30 cm), the height of cylindrical vases may range from 6-12.5 in (15-32 cm), and jar height ranges from approximately 5-11 in (12-28 cm).

iii. Formal Names: Referred to as the Copador Ceramic Group (Sharer 1978).

b. Gualpopa Polychrome: This type is closely related to Copador Polychrome, with which it shares a cream colored paste and the hemispherical bowl form (rarer forms in Gualpopa are: Flat bottomed bowls with vertical walls and composite walled bowls). Designs in Gualpopa are painted in red (which, unlike the Copador, are not specular) and black on a cream-orange base. Gualpopa motifs are simpler than Copador. Most common designs are geometric designs (spirals, “melon” bands, chevrons, and others), but repeating birds, monkeys, or designs derived from Maya glyphs may be found.

i. Dating: Late Classic, especially the first part of this period. Defined as a member of the Payu Ceramic Complex.

ii. Size: Diameters range from 6-15 in (16-38 cm).

iii. Formal Names: Termed as the Gualpopa Ceramic Group (Sharer 1978).

c. Arambala Polychrome: Formerly referred to as “false Copador” due to its close resemblance to Copador Polychrome. Arambala may be differentiated from Copador by its reddish paste (contrasting with Copador's cream paste) and the use of a dull red paint (rather than Copador's specular red paint). Apart from these two differences, however, Arambala closely duplicates Copador's repertoire of vessel forms, dimensions, and decoration (which are described above). A cream-orange slip was added over Arambala's reddish paste to approximate Copador's base color, but this slip often has a streaky appearance.

i. Dating: Late Classic Period. A member of the Payu Ceramic Complex and present in the Tamasha Phase of Cara Sucia.

ii. Size: See the description for Copador Polychrome.

iii. Formal Names: Defined as the Arambala Ceramic Group (Sharer 1978).

d. Campana Polychrome Vessels: Flat bottomed bowls with flaring walls, usually large. Provided with four hollow supports that may take the form of pinched cylinders or cylinders with human or animal effigies. Intricate painted designs were executed in black-brown, dull red, and orange, on a cream to cream-orange base. A large portrayal of a human or animal is featured on the interior center of these vessels, and the rims often have a distinctive encircling twisted rope and dot design. Some examples have a few curving lines of broad (up to 0.5 in (1.3 cm)) Usulután negative decoration. Campana Polychrome paste is dense, hard, and brick red. Other forms include small bowls without supports, with flat bottoms and flaring walls, and cylindrical vases with bulging and sometimes faceted midsections and occasionally short ring bases. The cylindrical vases usually feature panels on opposing sides of the vessel, with human or animal designs, and may have very short and wide tabular supports.

i. Dating: Late Classic Period. Present in association with the Payu Ceramic Complex (Sharer 1978), the Lepa Phase (Andrews 1976), and the Tamasha Phase (Amaroli 1987).

ii. Size: The large bowls with supports range from 10-20 in (25-50 cm) in diameter. The small bowls without supports are usually 6-9 in (16-22 cm) in diameter. Cylindrical vases range in height from 7-10 in (18-25 cm).

iii. Formal Names: Termed as the Campana Polychrome Ceramic Group (Sharer 1978).

e. Salua Polychrome: Mostly cylindrical vases, usually with very short and wide tabular supports. The larger examples may have two opposing modeled head handles, just below the rim, representing monkeys or other animals. Bold designs are painted on a cream to orange base, using different combinations of black, dull red, dark orange, and yellow. The normally invisible paste is brick red. Black was often used to create ample panels (or even to cover almost the entire vessel) as a backdrop for featured designs. The principal designs are strikingly displayed and can include: Mat patterns (petates), twisted cord patterns, animals (jaguars, parrots, owls, and others), humans, sea shells, ballcourts (represented by a two or four colored “I”-shaped drawing), and other motifs. Humans are often arrayed in finely detailed costumes and may be represented playing musical instruments, sowing with a digging stick, armed for battle, seated within a structure, or in other attitudes. A decorative option was to excise or stamp designs in panels or registers.

The remainder of the vessel (or, if a featured motif is lacking, all of the vessel) is decorated with panels and registers with circumferencial bands near the rim and geometric patterns elsewhere. Other vessel forms known for Salua are short cylinders, bowls, convex walled bowls (i.e., with bulging sides), composite walled bowls, and jars. Despite their exceptional decoration, colored stucco was sometimes used to cover areas of Salua vessels (when eroded this stucco leaves chalky traces). Salua vessels have rarely been found filled with red pigment.

i. Dating: Late Classic (associated with the Payu Ceramic Complex and the Lepa Phase).

ii. Size: The cylindrical vessels grade into vertical walled bowls over a range of heights from 3.5-12.5 in (9-32 cm). Bowl diameters range from 6-12 in (15-30 cm).

iii. Formal Names: The name Salua is a local term employed in the National Museum of El Salvador. It has been long recognized that probably several different ceramic groups are lumped under this term, and that at least some of these groups probably correspond with the so-called Ulua or Sula Valley Polychromes of neighboring Honduras (which, in recent years, have been divided among several ceramic groups).² Sharer cites Salua as a special group of the Payu complex, termed Special: Polychrome B, and he also mentions the name Salua Polychrome (Sharer 1978). At Quelepa, it was noted as an unnamed ceramic group referred to as Dark Orange and Black on Orange (Andrews 1976). Several examples are illustrated in Longyear 1944 and John M. Longyear, III, “Archaeological Survey of El Salvador” in Handbook of Middle American Indians, Vol. 4, University of Texas Press, Austin, Texas, United States (Gordon F. Ekholm and Gordon R. Willey eds. 1966) (hereinafter, referred to as “Longyear 1966”).

² In comparison with Honduran collections, there is a relative abundance of Salua Polychrome in national and private collections in El Salvador.

f. Quelepa Polychrome: Hemispherical and composite wall bowls and jars. Bowls may have basal flanges or slight angle changes near the rim, and small solid or larger hollow supports. Quelepa Polychrome has a hard and very white base (slip) over a fine red paste. On this white base were painted designs in orange (often applied as a wash over most of the vessel), red, and black; very rarely a purple paint may be present. Designs include “checkerboards”, sunbursts, circles, bands, wavy lines, and others. Animals may be depicted on the interior or exterior (jaguars, birds, and monkeys have been noted).

i. Dating: Late Classic (a member of the Lepa Ceramic Complex).

ii. Size: Bowls may measure from 4.5-15 in (11-38 cm) in diameter.

iii. Formal Names: Termed as the Quelepa Polychrome Ceramic Group in Andrews 1976.

g. Los Llanitos Polychrome: Flaring walled bowls, most or all with solid tabular supports (supports may have effigy decoration). A cream colored slip was applied on a red paste. Orange paint was applied to the entire interior of the bowl and in small areas bordered by black on the exterior. In addition to orange and black, colors may include dull red, sepia, and rarely purple. Two designs diagnostic of Los Llanitos Polychrome are a “five-fingered flame” and stacks of three or four horizontal bars of decreasing length.

i. Dating: Late Classic (a member of the Lepa Ceramic Complex).

ii. Size: 7-12.5 in (18-32 cm) in diameter.

iii. Formal Names: Termed Los Llanitos Polychrome by Longyear (Longyear 1944) and Los Llanitos Polychrome Ceramic Group by Andrews (Andrews 1976).

h. “Chinautla” Polychrome: Flaring walled bowls with flat bases and three or four hollow conical supports with simple appliqué. Red and black-brown designs were painted over a cream slip in registers, including spirals, stepped frets, bars, and dots.

i. Dating: Late Postclassic (a member of the Ahal Ceramic Complex).

ii. Size: 6.5-10 in (17-26 cm) in diameter.

iii. Formal Names: First defined in Chalchuapa as the Chinautla Ceramic Group by Sharer (Sharer 1978) due to its similarities with the “Chinautla Polychrome tradition” found mostly in the Guatemalan highlands, which is subdivided into several distinct and locally distributed ceramic groups, of which the Chalchuapa variety would be one.

i. Machacal Purple Polychrome: Bowls (hemispherical, composite walled, or vertical walled with convex bases). With the exception of vertical walled bowls, these may be supported by ring bases, pedestal bases, or four hollow cylindrical supports. Possesses an orange base slip with red and dark purple designs. Purple designs in the form of a horizontal “S” on the vessel exterior are common. Vessel bottoms usually have a simple purple design that some people have considered to vaguely resemble a bird. The generous use of purple paint on an orange base slip is a distinctive characteristic of this variety.

i. Dating: End of the Early Classic and beginning of the Late Classic.

ii. Size: 5-11.5 in (13-29 cm) in diameter.

iii. Formal Names: Termed Red and Purple on Orange by Boggs (in Longyear 1944), and Machacal Purple-polychrome by Sharer (Sharer 1978).

j. Nicoya Polychrome: Hemispherical bowls, bowls with rounded to almost flat bases and flaring walls (these may have three hollow cylindrical or conical supports with effigy decoration as an option, often in the form of bird heads), cylindrical vases with ring bases, and jars. Red, black, and yellow paint was applied over a very smooth white slip with a “soapy” texture. Usually over half of the vessel was left white. Designs include registers with geometric designs, human figures, and others. Rare vessels may have unusual forms and appendages.

i. Dating: Early Postclassic.

ii. Size: Bowls range from 6-11 in (15-28 cm) in diameter; cylindrical vases range from 6.5-12 in (17-30 cm) in height.

iii. Formal Names: Long called Nicoya Polychrome due to its relationship with the different varieties grouped under that name first defined for Nicaragua and Costa Rica. The variety found in El Salvador differs sufficiently from those varieties in forms and decoration to be considered as an additional type.

k. Chancala Polychrome: Hemispherical bowls, often slightly flaring from just under the rim. A cream base slip (often streaky in appearance) was painted with designs in brown-black and red. Animals rendered in a distinctive silhouette style were painted on opposing sides of the exterior (monkeys, lizards, and birds seem to be represented), with large solid circles, squares or cross-hatch designs between the two. The upper portion of the exterior body is divided by bands in a register holding step frets, circles, and/or other designs.

i. Dating: Late Classic.

ii. Size: 6-8 in (15-20 cm) in diameter.

iii. Formal Names: Termed Chancala Polychrome by Boggs (Stanley H. Boggs, “Cerámica clásica del barrio Santa Anita, San Salvador en la colección Orlando de Sola” in Anales del Museo Nacional “David J. Guzmán” 9 (37-41), Museo Nacional de San Salvador, San Salvador, El Salvador (1972) (hereinafter, referred to as “Boggs 1972”)).

l. Salinitas Polychrome: Known in bowl forms with a streaky cream to orange base slip. Black circumferencial bands define registers that usually enclose alternating spirals and stylized animals outlined in black with orange infilling.

i. Dating: Late Classic Period.

ii. Formal Names: Termed Salinitas Polychrome by Boggs.

2. Vessels With Usulután Decoration

Here are included several different varieties of ceramics that prominently feature Usulután decoration as their distinctive trait. Usulután decoration is a negative technique, resulting in light-colored lines against a darker background. The light lines were achieved by applying a resist substance and then covering the vessel with a slip that fired a darker color. Since this failed to adhere to the areas with resist, these maintained their lighter shade (a simplified explanation). In its most elaborate version, the resist substance was applied with a multiple brush with as many as seven small brushes fastened in a row, allowing the creation of swirling parallel lines. The base color on these vessels ranges from salmon pink to dark yellow, with the lines being a lighter shade of the same. Some varieties have red paint added as rim bands or (in the case of the Chilanga Ceramic Group) simple designs. Formal names for the ceramic groups considered here are: Jicalapa, Puxtla, Izalco, and Chilanga (Sharer 1978, Demarest 1986, Andrews 1976).

3. Plumbate Vessels

Unpainted vessels with a glazed appearance. Surface color ranges from dark brown-black to lead-colored to salmon-orange, and sometimes all are found on a single vessel. Some areas may be iridescent. This is an extremely hard ceramic and “rings” when tapped. Vessel forms include a variety of forms of jars, bowls, cylindrical vases, and may even include figurines. Effigy decoration is common.

a. Dating: Terminal Classic (San Juan variety) and Early Postclassic (Tohil variety).

b. Formal Names: Both San Juan and Tohil varieties ³ are found in El Salvador (Sharer 1978).

³ One third of all Tohil vessels recorded in the only pan-Mesoamerican inventory to date were from El Salvador (Ann O. Shepard, “Plumbate: A Mesoamerican Trade Ware” in Publication 573, Carnegie Institution of Washington, Washington, DC, United States (1948)).

4. Olocuilta Orange and Santa Tecla Red Vessels

These two distinctive varieties of Late Preclassic ceramic vessels share many forms and types of decoration. Forms include a variety of bowls that may have very wide everted rims with scalloped and incised designs (in extreme cases, the rims may be extended to form fish or other animal effigies when viewed from above). Bowls may also include faceted flanges. Some bowls may take the form of toad effigies. Usulután decoration (very often poorly preserved) may be present. The Santa Tecla Red variety is distinguished by its dense dark red slip, while Olocuilta Orange has a light orange slip (often with a powdery texture when slightly eroded). Santa Tecla Red may have graphite rubbed into grooves.

a. Dating: Late Preclassic (Chul and Caynac Ceramic Complexes).

b. Formal Names: Santa Tecla and Olocuilta Ceramic Groups (Sharer 1978; Demarest 1986).⁴

⁴ In these sources, “Olocuilta” (which is the name of a Salvadoran town) was misspelled “Olocuitla”.

5. Incised or Excised Vessels

Here are considered different varieties of ceramic vessels whose salient visual trait is decoration based on incision or excision.

a. Pinos: Pinos vessels have a smooth streaky black to brown slip with (post-slip) incisions on the exterior forming geometric designs. These incisions are sometimes filled with red or white pigment. Forms include a variety of bowl forms. Defined as part of the Chul and Caynac Ceramic Complexes of the Late Preclassic Period (Sharer 1978; Demarest 1986).

b. Lolotique: A variety of bowl forms of a dark and dull red color with fine post-slip incised geometric patterns. Defined as part of the Chul and Caynac Ceramic Complexes of the Late Preclassic Period (Sharer 1978; Demarest 1986).

c. Chalate Carved: Cylindrical vessels with a band of false glyphs or geometric designs carved below the rim. Details within this excavated band may be emphasized with incision. Vessel bodies are usually tan colored, and cream slip was sometimes added over the exterior, avoiding the carved band which was sometimes painted with red slip. When the cream slip is present, negative designs of dots, circles, water lilies, or egrets may be barely visible on the vessel body. The name of this Late Classic type is provisional and was proposed by Boggs based on its abundance in the Chalatenango area.

d. Red Excised: Cylindrical vessels with a band of false glyphs or geometric decoration excised below the rim and vertical excised grooves usually covering the rest of the exterior, sometimes with two opposing excised panels representing animal heads or other designs. Slipped with a dark red-orange color. Short solid tabular or nubbin supports may be present. Provisional name for a Late Classic type common in central El Salvador.

e. Cotzumalhuapa Incised Cylindrical Vases: Cylindrical vases, orange to brown in color, with fine incision including geometric motifs and monkeys. The rim area is distinguished by a band or groove. Late Classic Period.

6. Vessels With Red Decoration

Here are grouped together varieties of ceramic vessels whose principal decoration was executed in red paint.

a. Marihua Red on Buff: Forms include: Hemispherical bowls, bowls with rounded bases and flaring walls (these usually have three hollow or cylindrical supports, sometimes in the form of bird heads), and jars with three handles. Broad red lines form geometric designs on the buff colored interior of bowls and the exterior of jars. Designs include arcs, crosses, step frets, ehecatcozcatl (split snail shell motif), and others. Very rare are finely incised designs in a band on the exterior of bowls. Postclassic Period (Wolfgang Haberland, “Marihua Red-on-Buff and the Pipil Question” in Ethnos 29 (1-2), National Museum of Ethnography, Stockholm, Sweden (1964) (hereinafter, referred to as “Haberland 1964”)).

b. Guarumal: Almost all known examples are jars. Part of the jar exterior (reddish brown in color) is painted with a dense and hard red paint that is finely crazed. The paint may cover the upper portion of vessels, or may be distributed as panels, large dots or arcs. Rarely the entire vessel exterior is covered in red. A decorative option was to apply white paint in circles (applied with a hollow cane) and/or zigzagging lines. This white paint is also very hard and was applied over red painted areas. A small rabbit appliqué may appear on the vessel body. Late Classic Period (Marilyn P. Beaudry, “The Ceramics of the Zapotitán Valley” in Archaeology and Volcanism in Central America: The Zapotitán Valley of El Salvador, University of Texas Press, Austin, Texas, United States (Payson D. Sheets ed. 1983) (hereinafter, referred to as “Beaudry 1983”)).

c. Delirio Red on White: Hemispherical bowls (sometimes made into an armadillo effigy by means of a shingled exterior and appliquéd head and tail), bowls with flat or slightly rounded bottoms and flaring walls (these may have hollow cylindrical supports), jars (which may have a pair of effigy head handles below the rim), and other minor forms. A hard white slip was painted in red with very intricate geometric designs. Naturalistic forms are very rare. Late Classic Period (Lepa Ceramic Complex—Andrews 1976).

d. Cara Sucia Red Painted: Jars with dull red-orange paint over a cream-orange slip. The lower body is divided by vertical pairs of bands. Birds or other motifs may be painted on the shoulder of the vessel. Late Classic Period.

7. Jars With Modeled Effigy Faces

Here are grouped together different varieties of ceramic jars that share the presence of effigy faces or heads applied to the vessel neck. Motifs include: Old man, man with goatee and closed eyes, monkey, bird, and schematic humans.

8. Tiquisate Vessels

Tiquisate vessels are entirely orange (ranging from light cream-orange to deep orange in color). Their surface is very hard and may “ring” when tapped. Vessel forms include hemispherical bowls and cylindrical vases. Decoration may take the form of rows of bosses, incised geometric designs, or stamped scenes of humans, animal heads, twisted bands, or other designs. Late Classic.

9. Fine Paste Vessels

Forms include small flat bottomed bowls with vertical walls and hollow rattle supports, and piriform vessels with ring bases. Vessel walls are very thin and “ring” when tapped. An orange may be applied to the vessel with the exception of the base. Fine incising may be found on the exterior of bowls and may retain white and blue post-fire paint. Terminal Classic Period.

10. Cara Sucia Pedestal-Based Bowls

A distinctive type of bowl with a tall pedestal base. The bowls often have a basal flange, and red painted zones are sometimes found on the interior. Late Classic Period.

11. Stuccoed Vessels

Here are grouped a variety of vessel forms and types whose common denominator for the purposes at hand is the presence of stuccoed decoration. The stucco involved is usually a white kaolin clay with blue, blue-green, red, yellow, or brown pigment mixed in, and probably had (originally) an organic binder or agglutinate. Since that binder long since ceased to function, the stuccoed decoration tends to be very fragile. Designs are usually simple bands or geometric motifs, but occasionally human or animal figures may be represented. Entirely stuccoed vessels seem to be most common in the Late Classic, and especially in the Terminal Classic.

12. Guazapa Scraped Slip Vessels

Jars with a brown body over which was applied a cream colored slip that was finger dragged (like finger painting) while it was still wet, creating curving or wavy designs. A reddish-orange wash was sometimes applied over the scraped slip. Early and Late Classic Periods.

13. Ancient Imports

Late Classic Palmar and Other Lowland Maya Ceramics Several vessels of so-called “Peten Glossware” have been found in El Salvador that include the formally defined Palmar Ceramic Group, and may also include examples of the Saxche Ceramic Group and others (Sharer 1978). To date, three of such vessels have been found in scientific excavations (one in a Tazumal tomb in the 1940s, a Palmar vessel in an offering with an eccentric flint in San Andrés in the 1970s, and a Palmar vessel in a grave on the outskirts of San Salvador in 1993). Several others have been documented in looting situations, including three recorded by Sharer (Sharer 1978), and in private collections. Although these vessels were not made in the territory of El Salvador, they were ancient imports, and, as such, form part of the Salvadoran cultural heritage, providing important testimony relative to long-distance social and economic relationships.

Forms include bowls with flat or slightly rounded bottoms and walls ranging from slightly flaring (nearly vertical) to broadly flaring walls, shallow simple bowls, tecomates (spherical forms with a small orifice), and cylindrical vases. Bowls may have ring bases, hollow cylindrical supports, or other forms of supports. Decoration consists of an orange or cream base slip over which were painted designs in black, red, and sometimes yellow. Designs include: Glyph bands, humans standing, seated, dancing, or in other attitudes, heads (human, animal, God K, and others), animals in different positions, and other themes rendered in Late Classic Lowland Maya style.

D. Ceramic Drums

Ceramic drums comprise a globular body with a short rim on one extreme (over which the drum surface was stretched) and a long open shaft on the other extreme (which served as a stand). The body may have incised decoration. Surfaces are usually slipped and well-polished, and may range from dark brown-black to brown to brownish red in color. Late Classic Period.

E. Incense Burners

1. Ladle Censers

This category groups together a variety of different spoon- or ladle-shaped incense burners. These have a handle (which may be a hollow tube or a flattened loop) which supports the “spoon” or “ladle” that actually held the embers over which incense was sprinkled. The ladle portion may have holes perforated to facilitate the circulation of air, and in the taller, more cup-like versions these holes may take the form of crosses or step frets (these are the so-called “Mixteca-Puebla” style censers). Animal heads, claws, or other effigies may be added to end of the handle.

2. Three-Pronged Censers

Standing cylinders with three vertical prongs at the top and two long vertical flanges on the sides. Effigy faces may be added to the vessel bodies (bats have been noted). Post-fire paint added in red, orange, and white. Late Preclassic and Early Classic Periods (Sharer 1978).

3. Lolotique Spiked Censers

The bowl-shaped censer body is supported by a tall pedestal base with perforations in the form of two large squares or circles, or slits. Short spikes cover the base and body. May retain remnants of post-fire red or white paint. Late Classic Period (Andrews 1978).

4. Las Lajas Spiked Censers

Large hourglass-shaped censer covered by short spikes. Incised or modeled decoration may be found on the everted rims found at top and bottom. An internal shelf may be present to hold the large clay dish that supported the embers. Early Postclassic Period (Fowler 1981).

5. San Andrés Stone Censers

Squat barrel-shaped censers of hard volcanic stone with columns of spikes on part of the exterior. The upper part of these censers have a dish-like depression to contain embers. Late Classic Period.

6. Large Effigy Censers

Different varieties of censers whose common traits are their relatively large size and the prominent presence of elaborate effigies covering much or all of the censer body. In extreme cases, the censer is entirely concealed within a virtual ceramic sculpture. As an alternative to a single large effigy, some present several figures on a single censer, or a single element (like a head) repeated several times. Recorded effigies have included: The god Tlaloc (identifiable by a large ring around each eye), an individual with bulbous protruding eyes, the god Xipe Totec (appearing as an individual wearing a flayed human skin), jaguars, monkeys, iguanas, large saurians (so-called Earth Monsters), GIII (a manifestation of the Sun god identifiable by a twisted cord extending vertically between the eyes and catfish-like barbels curling from the sides of the mouth), and others. Mostly Late Classic and Postclassic Periods.

7. Cotzumalhuapa Goblet Censers

Large goblet shaped vessel forms (essentially a large bowl with walls that begin as vertical and midway to the rim moderately flare outward, with a pedestal base), usually with signs of burning on the interior base. These censers may be unadorned, or may have two or three hollow head effigies rising directly from the rim, or they may have many small effigy heads attached in a row around the vessel just below its rim (monkey and iguana heads have been documented). Lids, when present, may appear as inverted bowls, with or without an effigy figure on top (one example has a large seated monkey). Late Classic Period.

F. Mushroom Effigies

Though some regard these as phallic effigies, most agree that mushrooms are represented. Two varieties are presented here.

1. Ceramic Mushroom Effigies

Tall hollow bases rise from a flaring base and taper upwards to support the mushroom “cap”. The body may be plain or may carry red paint and fine incisions (usually in the form of rows of triangles). Probably Late Preclassic and Early Classic Periods.

2. Stone Mushroom Effigies

Usually made of fine-grained volcanic stone. The shaft of the mushroom rises from a base that may be cylindrical or square, and occasionally has short supports. Near the “cap” may often be found two raised bands representing the point from which the cap separates from its stem as it opens. Late Preclassic and Early Classic Periods.

G. Stone Sculpture

1. Preclassic Animal Head Sculptures

Monumental sculptures in volcanic stone representing very stylized animal heads (Demarest 1986). These have usually been interpreted as jaguar heads, and, thus, are commonly called Jaguar Heads, but reptilian elements may also be present. These were apparently architectural elements associated with Late Preclassic Period pyramids.

2. Cotzumalhuapa Sculpture

Monumental sculptures in volcanic stone in the Cotzumalhuapa style (see Lee A. Parsons, “Bilbao, Guatemala” (Vol. 1) in Publications in Anthropology 11, Milwaukee Public Museum, Milwaukee, Wisconsin, United States (1967) (hereinafter, referred to as “Parsons 1967”); Lee A. Parsons, “Bilbao, Guatemala” (Vol. 2) in Publications in Anthropology 12, Milwaukee Public Museum, Milwaukee, Wisconsin, United States (1969) (hereinafter, referred to as “Parsons 1969”)). Themes known from El Salvador include: A snake emerging from the ground, a skeletal figure with a hat resembling a derby, a coiled snake, and a disk with a jaguar face. Some of these are made from two stones which connect by means of a hidden tenon. Late Classic Period.

3. Tenoned Head Sculptures

Long sculptures of volcanic stone with an animal head at one end and an undecorated tenon at the other, intended to be mounted in monumental architecture. The heads usually represent a bird or reptile. Late Classic Period.

4. Balsamo Sculpture

These portable sculptures are usually made of vesicular volcanic stone and represent a human form in a squatting position. The vertebrae are usually indicated as a notched ridge on the individual's back. Although this form predominates, a grasshopper sculpture is also documented. Postclassic Period.

5. Yugos

“U”-shaped ballgame yugos (yokes) made of dense volcanic stone. Very rare examples may carry carved decoration. Late Classic Period.

6. Hachas

Thin ballgame hachas usually representing animal or human heads (a variety of other designs are also found, such as, a coiled snake and a skull). Made of fine-grained volcanic stone. Some examples have iron pyrite “eyes” and traces of red paint. Late Classic Period.

7. Effigy Metates

Metates with a thin and slightly curving body, with an animal head at one end. A tail may be present at the other end. These are usually supported by three tall supports. Made of dense volcanic stone. Late Classic and Early Postclassic Periods.

H. Small Stone Artifacts

1. Jade or Similar Greenstone Artifacts

Lustrous and hard green-colored stone crafted into: Beads (spherical, globular, tubular, or discoidal), pendants (plain or with human or animal effigies, including so called “axe gods” and canine tooth effigies), plaques (or pectorals) with elaborate designs, masks, mosaics, earspools, animal or human effigies (heads or full figure), or schematic squatting human forms (similar to examples from the El Cajón area of Honduras).

2. Eccentric Chipped Stone

Flint, chert, or obsidian flaked into eccentric forms. These may include: A zigzag lance point form, a disc with three prongs or spike on one side, and elaborate large effigy eccentrics apparently meant to serve as scepters (similar to those found in caches at Copán, Quiriguá, and other sites). Late Classic Period.

3. Obsidian Artifacts in General

Prismatic blades, bifacial artifacts (lance points, arrow points, “knives”), cores, and other objects made from obsidian (a black colored volcanic glass).

4. Pyrite Mosaic “Mirrors”

A mosaic of carefully fitted plaques of iron pyrite placed on a thin disc-shaped backing made of stone or clay that may have designs on one side. When new, the pyrite reflected light brilliantly, but archaeological specimens have often lost their shine due to oxidation (the pyrite may convert to a brownish black crust). Late Classic and perhaps other periods.

5. Paint Pallets

Small artifacts of vesicular volcanic stone with a dish-shaped or squared depression on one surface. Some pallets are simple, being essentially natural cobbles of a flattened oblong shape with the depression worked on one surface, or sometimes two depressions on opposing surfaces. Others are elaborately carved and may include four supports and animal or human head effigies. Traces of red pigment have been found on some pallets. Late Classic and possibly other periods.

6. Translucent Stone Bowls

Thin bowls carved from light colored translucent stone (which in different cases has been labeled as marble, alabaster, and onyx). At least some of these may be ancient imports from the territory of Honduras. Late Classic Period.

7. Barkbeaters

Tabular dense stone artifacts with numerous longitudinal parallel incisions worked on one or both broad faces. On one variety (Classic and Postclassic Periods), three of the four narrow sides have a broad groove meant to receive a very pliable stick wound around it as a handle. The other variety considered here has an integral stone handle (Late Preclassic).

8. Celts

These were originally mounted on wood handles for use as hatchets or adzes. Made of very dense, fine-grained stone and are often highly polished near the bit and sometimes over the entire body. Some examples are made of jade or stone resembling jade.

I. Metal Artifacts

1. Copper Celts

Mounted on wooden handles for use as hatchets or adzes. Long copper celts with a rectangular cross section. May have a dark patina. Postclassic Period.

2. Copper Rings

Copper finger rings made with the lost wax technique. Documented examples include filigree details or effigy heads. Terminal Classic and Postclassic Periods.

3. Copper Bells

Copper bells, plain or with effigies, usually made by the lost wax technique. Postclassic Period.

4. Tumbaga Artifacts

Tumbaga is an alloy of copper and gold. Artifacts made of Tumbaga may present a mottled surface looking golden in parts. Documented Tumbaga artifacts from El Salvador include small animal figurines made by the lost wax technique, and a small hammered sheet mask with eyes and mouth cutouts. Late Classic Period.

II. Ecclesiastical Ethnological Material

Ethnological material covered by the MOU includes ecclesiastical material from the Colonial period through the first half of the twentieth century ranging in date from approximately A.D. 1525 to 1950 that was made by artisans and used for religious purposes. Salvadoran artisans created paintings, sculptures, furniture, metalwork, textiles, and craftwork for religious use in churches and cofradias, or ecclesiastical lay organizations, until the mid-twentieth century. This ethnological material was not mass-produced or industrially produced, and most works were anonymous. Examples of ethnological material covered by the MOU include, but are not limited to, the following objects:

A. Paintings

Paintings depicting figures, narratives, and events, relating to ecclesiastical themes, usually done in oil on wood, metal, walls, or canvas (linen, jute, or cotton).

B. Sculptures

Sculptural images of scenes or figures, carved in wood and usually painted, relating to ecclesiastical themes, including Christ, the Virgin Mary, saints, Anima Sola (souls in purgatory), and other figures.

1. Relief Sculptures

Low-relief plaques, often with polychrome painting, relating to ecclesiastical themes.

2. Sculpted Figures

Wood carvings of figures relating to ecclesiastical themes. Figures are decorated with polychrome painting, sometimes using the estofado technique. Hands and faces may be more finely carved than the torso. Eyelashes, eyes, and hair may be added. Clothing might be sculpted and painted. In some cases, the torso consists of a simple wood frame covered in fabric clothing. Figures may have articulated arms, and sometimes legs, so they can be posed to represent various religious scenes. Sculpted figures may be life-sized or miniaturized. Some figures have metal accessories, such as, halos, aureoles, and staves.

C. Furniture

Furniture used for ecclesiastical purposes, usually made from wood with glass, metal, and/or textiles attached.

1. Altarpieces or Retablos

Elaborate ornamental structures placed behind the altar, including attached paintings, sculptures, and other religious objects.

2. Reliquaries and Coffins

Containers made from wood, glass, and/or metal that hold and exhibit sacred objects or human remains.

3. Church Furnishings

Furnishings used for liturgical rites, including pulpits, tabernacles, lecterns, confessionals, pews, choir stalls, chancels, baldachins, and palanquins.

4. Processional Furnishings

Litters, canopies, coffins, cases, crosses, banners, and cofradia insignias carried in processions and made of wood, glass, and/or textiles.

D. Metalwork

Ritual objects for ceremonial ecclesiastical use made of gold, silver, and/or other metals, such as, monstrances, lecterns, chalices, censers, candlesticks, crucifixes, crosses, decorative plaques, tabernacles, processional banners, church bells, and cofradia insignias; and objects used to dress sculptures, including, among others, crowns, halos, and aureoles.

E. Textiles

Textiles used to perform religious services made from cotton or silk that may be embroidered with metallic and/or silk thread, brocades, prints, lace, fabrics, braids, and/or bobbin lace.

1. Religious Vestments

Garments worn by priests and/or other ecclesiastics, including cloaks, tunics, surplices, chasubles, dalmatics, albs, amices, stoles, maniples, cinctures, rochets, miters, bonnets, and humeral veils.

2. Garments To Dress Sculptures

Life-sized or miniaturized garments, including tunics, robes, dresses, jackets, capes, stoles, veils, belts, and embroidered cloths.

3. Coverings and Hangings

Altar cloths, towels, and tabernacle veils used for religious services.

F. Documents and Manuscripts

Original handwritten texts or printed texts of limited circulation, primarily on paper, parchment, or vellum, including religious texts, hymnals, and church records. Documents may contain wax, clay, or ink seals or stamps denoting an ecclesiastical institution. Documents are generally written in Spanish, but may include words from indigenous languages, such as, Nawat, Lenca, or Mayan languages.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1) pertaining to the Secretary of the Treasury's authority (or that of his/her delegate) to approve regulations related to customs revenue functions.

List of Subjects in 19 CFR Part 12

Cultural property, Customs duties and inspection, Imports, Prohibited merchandise, Reporting and recordkeeping requirements.

Amendment to CBP Regulations

For the reasons set forth above, part 12 of Title 19 of the Code of Federal Regulations (19 CFR part 12), is amended as set forth below:

PART 12—SPECIAL CLASSES OF MERCHANDISE

1. The general authority citation for part 12 and the specific authority for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, paragraph (a), the entry for El Salvador in the table is revised to read as follows:

§ 12.104g Specific items or categories designated by agreements or emergency actions.

(a) * * *

State party | Cultural property | Decision No.
* * * * * * *
El Salvador | Archaeological material representing El Salvador's Pre-Hispanic cultures ranging in date from approximately 8000 B.C. through A.D. 1550 and ecclesiastical ethnological material from the Colonial period through the first half of the twentieth century ranging in date from approximately A.D. 1525 to 1950 | CBP Dec. 20-04.
* * * * * * *

* * * * *

Dated: March 6, 2020.
Mark A. Morgan
Acting Commissioner, U.S. Customs and Border Protection.
Approved:
Timothy E. Skud,
Deputy Assistant Secretary of the Treasury.

[FR Doc. 2020-05694 Filed 3-16-20; 11:15 am]

BILLING CODE 9111-14-P